DEPARTMENT OF AGRICULTURE

Forest Service

Deschutes Provincial Advisory Committee (PAC); Meeting

AGENCY: Forest Service, USDA.

ACTION: Notice of meeting.

SUMMARY: The Deschutes Provincial Advisory Committee will meet on September 11-12, 2002. The first day is a field trip to the Dilman project on the Deschutes River to view implementation of activities related to forest health and dispersed recreation on the Deschutes National Forest. The second day will be a business meeting beginning 9 a.m. and ending 4 p.m. at the La Pine Library at 16425 1st St. in La Pine, Oregon. Topics include Northwest Forest Plan Monitoring, Deschutes National Forest Recreation Strategy, Upper Deschutes Resource Management Plan, Hosmer, Subcommittee updates/Round Robin, and a Public Forum from 3-3:30 p.m.

FOR FURTHER INFORMATION CONTACT: Chris Mickle, Province Liaison, USDA, Bend-Ft. Rock Ranger District, 1230 NE. 3rd., Bend, OR, 97701, Phone (541) 383-4769.

Dated: August 14, 2002.
Leslie A.C. Weldon,
Forest Supervisor.

[FR Doc. 02-21217 Filed 8-20-02; 8:45 am]

BILLING CODE 3410-11-M